INTERNATIONAL TRADE COMMISSION

[Investigation No. 337-TA-1036]

Certain Magnetic Tape Cartridges and Components Thereof; Notice of Commission Decision Not To Review an Initial Determination Granting Complainant's Unopposed Motion To Amend the Complaint and Notice of Investigation

AGENCY: U.S. International Trade Commission.

ACTION: Notice.

SUMMARY: Notice is hereby given that the U.S. International Trade Commission has determined not to review the presiding administrative law judge's (“ALJ”) initial determination (“ID”) (Order No. 16) granting complainant's unopposed motion for leave to amend the complaint and notice of investigation to reflect a corporate reorganization of complainant Sony Storage Media and Devices Corporation.

FOR FURTHER INFORMATION CONTACT: Megan M. Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission TDD terminal on (202) 205-1810.

SUPPLEMENTARY INFORMATION: The Commission instituted this investigation on January 24, 2017, based on a complaint filed by Sony Corporation of Tokyo, Japan; Sony Storage Media and Devices Corporation of Tagajo, Japan (“SSMD”); Sony DADC US Inc. of Terre Haute, Indiana; and Sony Latin America Inc. of Miami, Florida (collectively, “Sony”), alleging a violation of section 337 of the Tariff Act of 1930, as amended, 19 U.S.C. 1337 (“section 337”). 82 FR 8209-10 (Jan 24, 2017). The complaint, as supplemented, alleges violations of section 337 by reason of infringement of certain claims of U.S. Patent Nos. 6,345,779; 6,896,959; 7,016,137; and 7,115,331 (collectively, “the patents-in-suit”). The complaint further alleges that an industry in the United States exists as required by subsection (a)(2) of section 337. The notice of investigation names as respondents Fujifilm Holdings Corporation and Fujifilm Corporation both of Tokyo, Japan; Fujifilm Holdings America Corporation of Valhalla, New York; and Fujifilm Recording Media U.S.A., Inc. of Bedford, Massachusetts (collectively, “Fujifilm”). Id. at 8210. The Office of Unfair Import Investigations is also named as a party. Id.

On July 28, 2017, Sony filed a motion for leave to amend the complaint and notice of investigation to reflect a corporate reorganization of SSMD. Specifically, Sony seeks to replace the entity SSMD with two distinct entities: “Sony Storage Media Solutions” and “Sony Storage Media Manufacturing Corporation.” Sony submits that the reorganization did not affect the ownership of the patents-in-suit. Sony stated that its motion is unopposed by Fujifilm or OUII.

On August 4, 2017, the ALJ issued the subject ID, granting Sony's motion pursuant to Commission rule 210.14(b)(1). The ID finds that Sony has shown good cause to amend the complaint and notice of investigation to reflect the corporate reorganization of SSMD. The ID further finds no evidence that these amendments would harm the public interest or prejudice any party to this investigation.

No petitions for review were filed and the Commission has determined not to review the subject ID.

The authority for the Commission's determination is contained in section 337 of the Tariff Act of 1930, as amended (19 U.S.C. 1337), and in Part 210 of the Commission's Rules of Practice and Procedure (19 CFR part 210).

By order of the Commission.
Issued: August 22, 2017.
William R. Bishop,
Supervisory Hearings and Information Officer.

[FR Doc. 2017-18044 Filed 8-24-17; 8:45 am]

BILLING CODE 7020-02-P